NUCLEAR REGULATORY COMMISSION

[Docket Nos. 50-348 and 50-364]

Southern Nuclear Operating Company, Inc., Joseph M. Farley Nuclear Plant, Units 1 And 2; Notice of Issuance of Renewed Facility Operating License Nos. NPF-2 And NPF-8 for an Additional 20-Year Period

Notice is hereby given that the U.S. Nuclear Regulatory Commission (the Commission) has issued Renewed Facility Operating License Nos. NPF-2 and NPF-8 to Southern Nuclear Operating Company, Inc. (SNC or the licensee), the operator of the Joseph M. Farley Nuclear Plant (FNP), Units 1 and 2. Renewed Facility Operating License No. NPF-2 authorizes operation of FNP, Unit 1, by the licensee at reactor core power levels not in excess of 2775 megawatts thermal in accordance with the provisions of the FNP, Unit 1, renewed license and its technical specifications. Renewed Facility Operating License No. NPF-8 authorizes operation of FNP, Unit 2, by the licensee at reactor core power levels not in excess of 2775 megawatts thermal in accordance with the provisions of the FNP, Unit 2, renewed license and its technical specifications.

The FNP units are Westinghouse pressurized-water nuclear reactors located in Houston County, Alabama, on the west bank of the Chattahoochee River.

The application for the renewed licenses complied with the standards and requirements of the Atomic Energy Act of 1954, as amended (the Act), and the Commission's regulations. As required by the Act and the Commission's regulations in 10 CFR Chapter I, the Commission has made appropriate findings, which are set forth in each license. Prior public notice of the proposed issuance of these renewed licenses and of an opportunity for a hearing regarding the proposed issuance of these renewed licenses was published in the Federal Register on November 5, 2003 (68 FR 62640).

For further details with respect to this action, see (1) SNC's license renewal application for FNP, Units 1 and 2, dated September 12, 2003; (2) the Commission's safety evaluation report dated May 2005 (NUREG-1825); (3) the licensee's updated final safety analysis report; and (4) the Commission's final environmental impact statement dated March 2005 (NUREG-1437, Supplement 18). These documents are available at the NRC's Public Document Room, One White Flint North, 11555 Rockville Pike, first floor, Rockville, Maryland 20852, and can be viewed from the NRC Public Electronic Reading Room at http://www.nrc.gov/reading-rm/adams.html.

Copies of Renewed Facility Operating License Nos. NPF-2 and NPF-8 may be obtained by writing to the U.S. Nuclear Regulatory Commission, Washington, DC 20555-0001, Attention: Director, Division of Regulatory Improvement Programs. Copies of the safety evaluation report (NUREG-1825) and the final environmental impact statement (NUREG-1437, Supplement 18) may be purchased from the National Technical Information Service, Springfield, Virginia 22161-0002 (http://www.ntis.gov), 1-800-553-6847, or the Superintendent of Documents, U.S. Government Printing Office, P.O. Box 371954, Pittsburgh, PA 15250-7954 (http://www.access.gpo.gov/su_docs/index.html), (202) 512-1800. All orders should clearly identify the NRC publication number and the requestor's Government Printing Office deposit account number or VISA or MasterCard number and expiration date.

Dated at Rockville, Maryland, this 12th day of May 2005.
For The Nuclear Regulatory Commission.
Pao-Tsin Kuo,
Program Director, License Renewal and Environmental Impacts Program, Division of Regulatory Improvement Programs, Office of Nuclear Reactor Regulation.

[FR Doc. E5-2556 Filed 5-19-05; 8:45 am]

BILLING CODE 7590-01-P